ENVIRONMENTAL PROTECTION AGENCY

[ER-FRL-6618-3]

Environmental Impact Statements; Notice of Availability

Responsible Agency:

Office of Federal Activities, General Information (202) 564-7167 or www.epa.gov/oeca/ofa

Weekly receipt of Environmental Impact Statements Filed May 14, 2001 Through May 18, 2001

Pursuant to 40 CFR 1506.9.

EIS No. 010174, FINAL EIS, FHW, CA, U.S. Highway 101 Transportation Improvement Project, between Vineyard Avenue to Johnson Drive, Funding, in the Cities of Oxnard and San Buenaventura, Ventura County, CA, Due: June 18, 2001, Contact: Jeff Kolb (916) 498-5037.

This EIS should have appeared in the FR on 05/18/2001.

The 30-day Wait Period is Calculated from 05/18/2001.

EIS No. 010176, DRAFT EIS, FRC, NY, Upper Hudson River Hydroelectric Project, Relicensing the E.J. West Project (FERC—No. 2318-002), Stewart Bridge Project (FERC—No. 2047-004), Hudson River Project (FERC—No. 2482-014) and Feeder Dam Hydroelectric Project (FERC—No. 2554-003), Saratoga, Fulton and Hamilton Counties, NY, Due: July 09, 2001, Contact: Lee Emery (202) 219-2779.

EIS No. 010177, DRAFT EIS, BLM, NV, Falcon to Gonder 345kV Transmission Project, Construction, Resource Management Plan Amendments, Right-of-Way Grant, Lander, Elko, Eureka and White Pine Counties, NV, Due: August 23, 2001, Contact: Mary Craggett (775) 635-4060.

EIS No. 010178, DRAFT EIS, FHW, NM, US 70 Corridor Improvement, Between Ruidoso Downs to Riverside, Implementation, Right-of-Way Acquisition, Lincoln County, NM, Due: July 09, 2001, Contact: Gregory D. Rawling (505) 820-2027.

EIS No. 010179, FINAL EIS, USN, HI, North Pacific Acoustic Laboratory Project, Reuse of Low Frequency Sound Source and Cable for Use in Acoustic Thermometry of Ocean Climate (ATOC) Research, Kauai, HI, Due: June 25, 2001, Contact: Kathleen Vigness Raposa (401) 847-7508.

EIS No. 010180, DRAFT EIS, FHW, CA, CA-120 Oakdale Expressway Project, Construction and Operation, Post Mile 3.0 to Post Mile R12.9 near Oakdale, Funding, Section 404 Permit, NPDES Permit, Stanislaus County, CA, Due: July 09, 2001, Contact: Glenn Clinton (916) 498-5041.

EIS No. 010181, DRAFT EIS, AFS, OR, Drew Creek, Diamond Rock and Divide Cattle Allotments, Issuance of Term Grazing Permits on Livestock Allotments on Tiller Ranger District, Implementation, Umpqua National Forest, Douglas and Jackson Counties, OR, Due: July 09, 2001, Contact: Wes Yamamoto (541) 825-3201.

EIS No. 010182, DRAFT EIS, AFS, MT, North Elkhorns Vegetation Project, Elkhorn Wildlife Management Unit, Implementation, Strawberry Butte Area, Helena National Forest, Jefferson County MT, Due: July 09, 2001, Contact: Jodie Canfield (406) 266-3425.

EIS No. 010183, DRAFT EIS, FAA, CA, Santa Barbara Airport Improvements, Extension of Runway Safety Areas for Runway 7/25, Expansion of the Airline Terminal Building, New Air Cargo Building, New Taxiway M, Pavement of Taxiway B, Additional T-Hangers and a New On-Airport Service Road, Funding, COE Section 404 and 10 Permits, Santa Barbara County, CA, Due: July 09, 2001, Contact: David B. Kessler (310) 725-3615.

EIS No. 010184, FINAL EIS, FHW, TX, US Highway 183 Alternate Project, Improvements from RM-620 to Approximately Three Miles North of the City of Leander, Williamson County, TX, Due: June 25, 2001, Contact: Patrick Bauer (512) 916-5511.

EIS No. 010185, DRAFT EIS, USA, KY, U.S. Army Armor Center and Fort Knox Northern Training Complex, Construction and Operation of a Multi-Purpose Digital Training Ranger and a Series of Maneuver Areas, Drop and Landing Zones, Fort Knox, KY, Due: July 09, 2001, Contact: Tony Rekas (703) 614-4991.

Amended Notices

EIS No. 010142, DRAFT EIS, AFS, UT, Uinta National Forest Revised Land and Resource Management Plan, Implementation, Juab, Sanpete, Tooele, Utah and Wasatch Counties, UT , Due: August 02, 2001, Contact: Peter W. Karp (801) 377-5780. Revision of FR Notice Published on 04/26/2001: CEQ Review Period Ending 07/26/2001 has been Extended to 08/02/2001.

EIS No. 010165, THIRD DRAFT EIS, AFS, UT, CO, Flat Canyon Federal Coal Lease Tract (UTU-77114), Application for Leasing, Manit-La Sal National Forest, Ferron-Price Ranger District, Sanpete and Emery Counties, UT , Due: July 02, 2001, Contact: Carter Reed (AFS) (435) 637-2817. Revision of FR notice published on 05/18/2001: Correction to Title and Contact Persons and Telephone Numbers. US Department of Agriculture, Forest Service and US Department of the Interior Bureau of Land Management are Joint Lead Agencies for the above Project. Stan Perks, Phone Number 801-539-4038 is the Contact Person for Bureau of Land Management.

EIS No. 010084, DRAFT SUPPLEMENT, FAA, MA, Logan Airside Improvements Planning Project (EOEA #10458), Construction and Operation of a new Unidirectional Runway 14/32, Centerfield Taxiway and Add'l Taxiway Improvements, New Information, Providing Clarification of the Delay Problems, Boston Logan Int'l Airport, Federal Funding, Airport Layout Plan and NPDES Permit, Boston, MA, Due: June 08, 2001, Contact: John Silva (781) 238-7602. Revision of FR Notice Published on 03/23/2001: CEQ Review Period Ending on 05/07/2001 has been Extended to 06/08/2001.

Dated: May 22, 2001.
Joseph C. Montgomery,
Director, NEPA Compliance Division, Office of Federal Activities

[FR Doc. 01-13294 Filed 5-24-01; 8:45 am]

BILLING CODE 6560-50-U